NATIONAL AERONAUTICS AND SPACE ADMINISTRATION

[Notice (19-023)]

Notice of Intent To Grant Exclusive License

AGENCY: National Aeronautics and Space Administration.

ACTION: Notice of intent to grant exclusive patent license.

SUMMARY: NASA hereby gives notice of its intent to grant an exclusive patent license in the United States to practice the inventions described and claimed in U.S. Patent Number 9,309,369 entitled, “Polyimide Aerogels with Three Dimensional Crosslinked Structure”, LEW-18486-2; U.S. Patent Number 8,974,903 entitled, “Porous Cross-Linked Polyimide-Urea Networks”, LEW-18825-1; U.S. Patent Number 9,109,088 entitled, “Porous Cross-Linked Polyimide Networks”, LEW-18864-1; and U.S. Patent 9,434,832 entitled, “Polyimide Aerogels with Polyamide Cross-Links”, LEW-19200-1 to Aerogel Technologies, LLC, having its principal place of business in Boston, Massachusetts. The fields of use may be limited to polyimide aerogel/fiber composites for use in apparel and soft goods.

DATES: The prospective exclusive license may be granted unless, no later than May 20, 2019, NASA receives written objections including evidence and argument that establish that the grant of the license would not be consistent with the requirements regarding the licensing of federally owned inventions as set forth in the Bayh-Dole Act and implementing regulations. Competing applications completed and received by NASA no later than May 20, 2019 will also be treated as objections to the grant of the contemplated exclusive license. Objections submitted in response to this notice will not be made available to the public for inspection and, to the extent permitted by law, will not be released under the Freedom of Information Act.

ADDRESSES: Objections relating to the prospective license may be submitted to Patent Counsel, Office of Chief Counsel, MS 142-7, NASA Glenn Research Center, 21000 Brookpark Rd., Cleveland, OH 44135. Phone (216) 433-3663. Facsimile (216) 433-6790.

FOR FURTHER INFORMATION CONTACT: Robert Earp, Patent Counsel, Office of Chief Counsel, MS 142-7, NASA Glenn Research Center, 21000 Brookpark Rd., Cleveland, OH 44135. Phone (216) 433-3663. Facsimile (216) 433-6790.

SUPPLEMENTARY INFORMATION: This notice of intent to grant an exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR. 404.7.

Information about other NASA inventions available for licensing can be found online at http://technology.nasa.gov.

Mark Dvorscak,
Agency Counsel for Intellectual Property.

[FR Doc. 2019-09048 Filed 5-2-19; 8:45 am]

BILLING CODE 7510-13-P